FEDERAL DEPOSIT INSURANCE CORPORATION

Agency Information Collection Activities: Submission for OMB Review; Comment Request

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection systems identified below:

1. Certification of Eligibility Under the Affordable Housing Program (3064-0116);

2. Notice Regarding Unauthorized Access to Customer Information (3064-0145);

3. Mutual-to-Stock Conversions of State Savings Banks (3064-0117);

4. Privacy of Consumer Financial Information (3064-0136); and

5. Applicant Background Questionnaire (3064-0138).

DATES: Comments must be submitted on or before September 11, 2006.

ADDRESSES: Interested parties are invited to submit written comments by any of the following methods. All comments should refer to the name and number of the collection:

• http://www.FDIC.gov/regulations/laws/federal/propose.html.

• E-mail: comments@fdic.gov. Include the name and number of the collection in the subject line of the message.

• Mail: Steve Hanft (202-898-3907), Paperwork Control Officer, Federal Deposit Insurance Corporation, 550 17th Street, NW., Washington, DC 20429.

• Hand Delivery: Comments may be hand-delivered to the guard station at the rear of the 550 17th Street Building (located on F Street), on business days between 7 a.m. and 5 p.m.

A copy of the comments may also be submitted to the OMB Desk Officer for the FDIC, Office of Information and Regulatory Affairs, Office of Management and Budget, New Executive Office Building, Washington, DC 20503.

FOR FURTHER INFORMATION CONTACT: Steve Hanft, at the address identified above.

SUPPLEMENTARY INFORMATION: Proposal to renew the following currently approved collections of information:

1. Title: Certification of Eligibility Under the Affordable Housing Program.

OMB Number: 3064-0116.

Form Number: None.

Frequency of Response: On occasion.

Affected Public: Individuals wishing to purchase affordable housing properties from the FDIC.

Estimated Number of Respondents: 12.

Estimated Time per Response:1 hour.

Total Annual Burden: 12 hours.

General Description of Collection: This collection of information certifies income eligibility under the affordable housing program. The certification assists the FDIC in determining an individual(s eligibility for purchasing affordable housing properties from the FDIC.

2. Title: Notice Regarding Unauthorized Access to Customer Information.

OMB Number: 3064-0145.

Form Number: None.

Frequency of Response: On occasion.

Affected Public: Insured state nonmember banks.

Number of Respondents: 5,200.

Estimated Time per Response:

Developing notices: 24 hrs. × 5,200 = 124,800 hours.

Notifying customers: 29 hrs. × 91 = 2,639 hours.

Total Estimated Annual Burden: 127,439 hours.

General Description of Collection: This collection reflects the FDIC's expectations regarding a response program that financial institutions should develop to address unauthorized access to or use of customer information that could result in substantial harm or inconvenience to a customer. The information collections require financial institutions to: (1) Develop notices to customers; and (2) in certain circumstances, determine which customers should receive the notices and send the notices to customers.

3. Title: Mutual-to-Stock Conversions of State Savings Banks.

OMB Number: 3064-0117.

Form Number: None.

Frequency of Response: On occasion.

Affected Public: Insured state chartered savings banks that are not members of the Federal Reserve System proposing to convert from mutual to stock form of ownership.

Estimated Number of Respondents: 10.

Estimated Time per Response: 50 hours.

Total Annual Burden: 500 hours.

General Description of Collection: 12 CFR 303.161 and 333.4 require state savings banks that are not members of the Federal Reserve System to file with the FDIC a notice of intent to convert to stock form and provide copies of documents filed with State and Federal banking and or securities regulators in connection with the proposed conversion.

4. Title: Privacy of Consumer Financial Information.

OMB Number: 3064-0136.

Form Number: None.

Frequency of Response: On occasion.

Affected Public: Insured state nonmember banks; consumers of financial services.

Estimated annual number of institution respondents: Initial notice, 208; annual notice and change in terms, 5,138; opt-out notice, 873.

Estimated average time per response per institution: Initial notice, 80 hours; annual notice and change in terms, 8 hours; opt-out notice, 8 hours.

Subtotal, annual burden hours for institutions: 64,728 hours.

Estimated annual number of consumer respondents: 223,475.

Estimated average time per consumer response: 30 minutes.

Subtotal, annual burden hours for consumers: 111,738.

Total annual burden: 176,466 hours.

General Description of Collection: The elements of this information collection are required under section 504 of the Gramm-Leach-Bliley Act, Public Law 106-102. The collection mandates notice requirements and restrictions on a financial institution's ability to disclose nonpublic personal information about consumers to nonaffiliated third parties. The collection also includes the filing of notices by consumers with their financial institutions.

5. Title: Applicant Background Questionnaire.

OMB Number: 3064-0138.

Form Number: FDIC 2100/14.

Frequency of Response: On occasion.

Affected Public: FDIC job applicants who are not current FDIC employees.

Estimated Number of Respondents: 10,000.

Estimated Time per Response: 3 minutes.

Total Annual Burden: 500 hours.

General Description of Collection: The FDIC Applicant Background Questionnaire is completed voluntarily by FDIC job applicants who are not current FDIC employees. Responses to questions on the survey provide information on gender, age, disability, race/national origin, and to the applicant's source of vacancy announcement information. The FDIC uses the data to evaluate the effectiveness of various recruitment methods, and to ensure that the agency meets workforce diversity objectives.

Request for Comment

Comments are invited on: (a) Whether these collections of information are necessary for the proper performance of the FDIC's functions, including whether the information has practical utility; (b) the accuracy of the estimates of the burden of the information collections, including the validity of the methodology and assumptions used; (c) ways to enhance the quality, utility, and clarity of the information to be collected; (d) ways to minimize the burden of the information collections on respondents, including through the use of automated collection techniques or other forms of information technology; and (e) estimates of capital or start up costs and costs of operation, maintenance, and purchase of services to provide the information.

At the end of the comment period, the comments and recommendations received will be analyzed to determine the extent to which the collections should be modified prior to submission to OMB for review and approval. Comments submitted in response to this notice also will be summarized or included in the FDIC's requests to OMB for renewal of these collections. All comments will become a matter of public record.

Dated at Washington, DC, August 8, 2006.
Federal Deposit Insurance Corporation.
Robert E. Feldman,
Executive Secretary.

[FR Doc. E6-13150 Filed 8-10-06; 8:45 am]

BILLING CODE 6714-01-P